DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four currently approved public information collections which will be submitted to OMB for renewal.

DATES: Comments must be received on or before February 26, 2001.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: The FAA solicits comments on the following four current collections of information in order to evaluate the necessity of the collection, the accuracy of the agency's estimate of the burden, the quality, utility, and clarity of the information to be collected, and possible ways to minimize the burden of the collection. Following are short synopses of the information collection activities which will be submitted to OMB for review and renewal:

1. 2120-0075, Airport Security—14 CFR part 107. 14 CFR part 107, Airport Security, implements the provisions of the Public Law 103-272 and the Aviation Security Improvement Act that relate to security of persons and property at airports operating in commercial air transportation. Airport security programs, training records, screenings, bomb threats, and arrest reports are needed to ensure protection of persons and property in air transportation against acts of criminal violence to ensure passenger screening procedures are effective and that information is available to comply with congressional reporting requirements. Currently, we estimate 465 respondents with a burden of approximately 75,500 hours annually.

2. 2120-0085, Certifications and Operations: 14 CFR part 125. Part A of Subtitle VII of the Revised Title 49 USC authorizes the issuance of regulations governing the use of navigable airspace. 14 CFR 125 will prescribe requirements for leased aircraft, Aviation Service Firms and Air Travel Clubs. Information collected shows compliance and the applicant's eligibility. The current number of respondents is 57 part 125 operators. The current burden is 29,445 hours annually.

3. 2120-0568, Federal Aviation Administration, Flight standards Customer Satisfaction Survey. The Flight Standards Service wishes to continue to survey customers in keeping with its strategic initiative to improve the quality of its service by anticipating customers needs and responding to the public interest. The FAA Flight Standards Offices proposes to continue with follow-up surveys based on information provided in the first phases of the surveys. In the past surveys, the respondents have been an estimated 63,700 Flight Standards customers from the categories of air operators, air agencies and airmen, resulting in a burden of 12,740 hours.

4. 2120-0623, Office of Rulemaking Request for Evaluation of Customer Standards Survey. The FAA Office of Rulemaking proposes to survey exemption customers on customer standards that were developed and published. The data collected will be analyzed by the Office of Rulemaking (ARM) to determine the quality of services provided by ARM to its exemption customers, and make any changes or improvements to the exemption process. In the past survey, the number surveyed was 325 for an estimated burden on 81 hours.

Issued in Washington, DC, on December 21, 2000.
Steve Hopkins,
Manager, Standards and Information Division, APF-100.

[FR Doc. 00-33188 Filed 12-27-00; 8:45 am]

BILLING CODE 4910-13-M